DEPARTMENT OF THE INTERIOR

Bureau of Land Management

[LLCAD06800.L17110000.KD0000.16X]

Notice of Availability of Final Environmental Impact Statement and Notice of Decision for Proposed Land Exchange Between the Bureau of Land Management and Agua Caliente Band of Cahuilla Indians, California

AGENCY: Bureau of Land Management, Interior.

ACTION: Notice of availability and decision.

SUMMARY: In accordance with the National Environmental Policy Act (NEPA) of 1969, as amended, and pursuant to Section 206 of the Federal Land Policy and Management Act (FLPMA) of 1976, as amended, the Bureau of Land Management (BLM)-Palm Springs-South Coast Field Office announces the availability of an abbreviated Final Environmental Impact Statement (EIS) and Record of Decision (ROD) for the proposed land exchange between the BLM and the Agua Caliente Band of Cahuilla Indians (Tribe). The BLM will issue the ROD concurrently with the Final EIS, but will not implement the ROD until after the 45-day protest period (43 CFR 2201.7-1). The Environmental Protection Agency's 30-day “cooling off” period will run concurrently with the protest period. The Decision approving the land exchange was issued by Douglas J. Herrema, Field Manager, BLM-Palm Springs-South Coast Field Office on January 18, 2018.

DATES: A Decision to complete an exchange is subject to protest for 45 days beginning on the first day of publication of this Notice. Thereby, all protests must be written and received by the BLM at the address below, no later than March 12, 2018. Protests related to NEPA documentation or other content of the decision document will be considered by the BLM. Verbal protests will not be accepted.

ADDRESSES: You may submit a protest of the proposed ROD by either of the following methods:

• Email: AguaCalienteExchange@blm.gov.

• Mail: Field Manager, BLM Palm Springs-South Coast Field Office, 1201 Bird Center Dr., Palm Springs, CA, 92262.

Copies of the proposed ROD and Final EIS for the proposed land exchange are available for public review in the Palm Springs-South Coast Field Office at the above address, during regular business hours (8 a.m. to 4 p.m.) Monday through Friday (except holidays), or on the internet at https://goo.gl/qyjNJa.

FOR FURTHER INFORMATION CONTACT: Ashley Adams, Monument Manager, telephone 760-833-7100; address BLM Palm Springs-South Coast Field Office, 1201 Bird Center Drive, Palm Springs CA 92262; email amadams@blm.gov. Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: Approval of the proposed land exchange transfers 2,560 acres of Federal lands, appraised in the amount of $795,000, to the Tribe in exchange for 1,471.24 acres of tribally-owned properties, appraised in the amount of $845,000. Since the appraised value of the offered Tribal lands exceeds the appraised valued of the selected Federal lands, the BLM will make a cash payment of $50,000 to the Tribe in order to equalize values. The selected Federal lands and offered Tribal lands all occur within the Santa Rosa and San Jacinto Mountains National Monument (Monument).

Federal land to be patented to the Tribe:

San Bernardino and Base Meridian, California

T. 5 S., R. 4 E.

Sections 16, 21, 27, and 29.

The area described aggregates 2,560 acres.

The patent that conveys the Federal lands will reserve a Right-of-Way for ditches and canals constructed by the authority of the United States pursuant to the Act of August 30, 1890 (43 U.S.C. 945).

Non-Federal land to be conveyed to the United States:

San Bernardino and Base Meridian, California

T. 5 S., R. 5 E.,

Section 7,

Section 19,

Section 20, W1/2W1/2.

The area described aggregates 1,471.24 acres.

The purpose of the land exchange is to reduce the extent of “checkerboard” land ownership, thereby providing the BLM and the Tribe with more effective and efficient land management responsibilities within the Monument. The public interest will be well served by making this exchange.

Lands acquired by the BLM will be managed in accordance with applicable statutes and regulations, as well as the California Desert Conservation Area Plan, as amended, and the Santa Rosa and San Jacinto Mountains National Monument Management Plan. Lands acquired by the Tribe will be managed in accordance with its Land Use Ordinance, Indian Canyons Master Plan, and Tribal Habitat Conservation Plan.

In 2008, the proposed land exchange was announced in a Notice of Exchange Proposal (NOEP), which included a 45-day public comment period. In 2010, an Environmental Assessment was released for public review, which allowed for a 30-day comment period. Based on their findings, the BLM determined that preparation of an EIS was necessary.

In 2012, the BLM initiated a public scoping process and subsequently released a Draft EIS with a 90-day public comment period, which concluded on March 29, 2015. Comments on the Draft EIS received from the public and internal BLM review were considered and incorporated as appropriate into the Final EIS. The BLM concluded that changes to the Draft EIS were minor, and as a result, an abbreviated Final EIS was completed. Those changes were primarily related to the exchange value equalization efforts based on a current appraisal. As a result, the amount of trails that were identified for disposal by the BLM were reduced.

Before including your phone number, email address, or other personal identifying information in your protest, you should be aware that your entire protest—including your personal identifying information—may be made publicly available at any time. While you can ask the BLM in your protest to withhold your personal identifying information from public review, we cannot guarantee that we will be able to do so.

Authority: 40 CFR 1506.6, 40 CFR 1506.10, 43 CFR 2200

Douglas J. Herrema,
Field Manager, Palm Springs—South Coast Field Office.

[FR Doc. 2018-01437 Filed 1-25-18; 8:45 am]

BILLING CODE 4310-40-P